FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of the agreements are available through the Commission's website (www.fmc.gov) or by contacting the Office of Agreements at (202)-523-5793 or tradeanalysis@fmc.gov.

Agreement No.: 012460-002.

Agreement Name: COSCO Shipping/PIL/WHL Vessel Sharing and Slot Charter Agreement.

Parties: COSCO Shipping Lines Co., Ltd.; Pacific International Lines (PTE) Ltd.; Wan Hai Lines (Singapore) Pte. Ltd.; and Wan Hai Lines Ltd.

Filing Party: Eric Jeffrey; Nixon Peabody.

Synopsis: The amendment changes the capacity and port rotation of the shared string and updates the slot exchanges among the Parties.

Proposed Effective Date: 8/3/2018.

Location: https://www2.fmc.gov/FMC.Agreements.Web/Public/AgreementHistory/1948.

Agreement No.: 011707-014.

Agreement Name: Gulf/South America Discussion Agreement.

Parties: BBC Chartering & Logistics GmbH & Co. KG and BBC Chartering Carriers GmbH & Co. KG (acting as a single party); Industrial Maritime Carriers, L.L.C.; and Seaboard Marine Ltd.

Filing Party: Wade S. Hooker, Attorney.

Synopsis: The amendment deletes Caytrans BBC LLC as a party to the Agreement.

Proposed Effective Date: 7/31/2018.

Location: https://www2.fmc.gov/FMC.Agreements.Web/Public/AgreementHistory/684.

Agreement No.: 201248-001.

Agreement Name: COSCO SHIPPING/PIL/WHL Vessel Sharing and Slot Exchange Agreement.

Parties: COSCO Shipping Lines Co., Ltd.; Pacific International Lines (PTE) Ltd.; Wan Hai Lines (Singapore) Pte. Ltd.; and Wan Hai Lines Ltd.

Filing Party: Eric Jeffrey; Nixon Peabody.

Synopsis: The amendment deletes CMA CGM as a Party to the Agreement, changes the name of the Agreement to reflect the deletion of CMA, changes the capacity and port rotation of the shared string and updates the slot exchanges among the Parties.

Proposed Effective Date: 8/6/2018.

Location: https://www2.fmc.gov/FMC.Agreements.Web/Public/AgreementHistory/9158.

Dated: August 7, 2018.
Rachel E. Dickon,
Secretary.

[FR Doc. 2018-17231 Filed 8-10-18; 8:45 am]

BILLING CODE 6731-AA-P